DEPARTMENT OF LABOR

Employee Benefits Security Administration

141st Meeting of the Advisory Council on Employee Welfare and Pension Benefit Plans; Notice of Meeting

Pursuant to the authority contained in section 512 of the Employee Retirement Income Security Act of 1974 (ERISA), 29 U.S.C. 1142, the 141st open meeting of the full Advisory Council on Employee Welfare and Pension Benefit Plans will be held on May 6, 2008.

The session will take place in Room S-2508, U.S. Department of Labor, 200 Constitution Avenue, NW., Washington, DC 20210. The purpose of the open meeting, which will run from 1:30 p.m. to approximately 4:30 p.m., is to swear in the new members, introduce the Council Chair and Vice Chair, receive an update from the Assistant Secretary of Labor for the Employee Benefits Security Administration, and determine the topics to be addressed by the Council in 2008.

Organizations or members of the public wishing to submit a written statement may do so by submitting 25 copies on or before April 29, 2008 to Larry Good, Executive Secretary, ERISA Advisory Council, U.S. Department of Labor, Suite N-5623, 200 Constitution Avenue, NW., Washington, DC 20210. Statements received on or before April 29, 2008 will be included in the record of the meeting. Individuals or representatives of organizations wishing to address the Advisory Council should forward their requests to the Executive Secretary or telephone (202) 693-8668. Oral presentations will be limited to ten minutes, time permitting, but an extended statement may be submitted for the record. Individuals with disabilities who need special accommodations should contact Larry Good by April 29 at the address indicated.

Signed at Washington, DC this 7th day of April, 2008.
Bradford P. Campbell,
Assistant Secretary, Employee Benefits Security Administration.

[FR Doc. E8-7757 Filed 4-10-08; 8:45 am]

BILLING CODE 4510-29-P